ENVIRONMENTAL PROTECTION AGENCY

[ER-FRL-6639-4]

Environmental Impact Statements; Notice of Availability

Responsible Agency: Office of Federal Activities, General Information (202) 564-7167 or http://epa.gov/complianc/nepa/.

Weekly receipt of Environmental Impact Statements

filed April 7, 2003, through April 11, 2003,

pursuant to 40 CFR 1506.9.

EIS No. 030163, Draft EIS, SFW, CA, Programmatic

EIS—San Francisco Estuary Invasive Spartina Project, Spartina Control Program to Preserve and Restore Ecological Integrity of the Estuary's Intertidal Habitats, Alameda, Contra Costa, Marin, Napa, San Francisco, San Mateo, CA, comment period ends: June 2, 2003, contact: Mark Littlefield (916) 414-6581.

This document is available on the Internet at: http://sacramento.fws.gov.

EIS No. 030164, Final Supplement, COE, FL, PCS Phosphate—White Springs Mine Continuation Mining Operations, Proposes to Discharge Dredged/ Fill Material into 1,858 Acres of Jurisdictional Wetlands, Applications of “Life of Mine” Permits, Hamilton County, FL, wait period ends: May 19, 2003, contact: Richard Legere (352) 331-0732.

EIS No. 030165, Final EIS, COE, ND, Devils Lake Basin North Dakota Study, the Reduction of Flood Damages Related to the Rising Lake Levels and the Flood-Prone Areas Around Devils Lake and to Reduce the Potential for Natural Overflow Event, Sheyenne River and Red River of the North, ND, wait period ends: May 19, 2003, contact: Robert Anfang (651) 290-5268.

EIS No. 030166, Final EIS, FHW, CA, CA-22/West Orange County Connection Project, Transportation Improvements between Interstate 605 and State Route 55, in the cities of Los Alamitos, Seal Beach, Garden Grove, Westminster, Santa Ana, and Orange, Orange County, CA, wait period ends: June 2, 2003, contact: Robert Cady (916) 498-5038.

EIS No. 030167, Final EIS, COE, TX, Corpus Christi Ship Channel Improvements Project, Commercial Navigation Improvements and Ecosystem Restoration, Corpus Christi and Nueces Bays, Nueces and San Patricio Counties, TX, wait period ends: May 19, 2003, contact: Carolyn Murphy (409) 766-3044.

EIS No. 030168, Final EIS, COE, FL, Lee County Beach Erosion Control Project, Shore Protection, Gasparilla and Estero Islands, Lee County, FL, wait period ends: May 19, 2003, contact: Yvonne Harberer (904) 232-1701.

EIS No. 030169, Draft Supplement, NOA, Atlantic Sea Scallop Fishery Management Plan (FMP), Amendment 10 is to Introduce Spatial Management of Adult Scallops, Essential Fish Habitat (EFH), from the Gulf of Maine and Georges Banks to Cape Hatteras, NC, comment period ends: July 16, 2003, contact: Paul J. Howard (978) 465-0492.

EIS No. 030170, Final EIS, AFS, WA, Quartzite Watershed Management Project, Watershed Management Activities including Vegetation Management, Riparian/Wetland Management and Road Management, Colville National Forest, Thomason Sherwood-Cottonwood Creek, Three Rivers Ranger District, Stevens County, WA, wait period ends: May 19, 2003, contact: Sherri Schwenke (509) 738-7000.

This document is available on the Internet at: http://www.fs.fed.us/r6/colville/forest/projects/quartzite.html.

EIS No. 030171, Draft EIS, AFS, UT, Prima East Clear Creek Federal No. 22-42 Gas Exploration Well, Application for Permit to Drill and (Surface Use Plan of Operations) Castle Valley Ridge, Ferron/Price Ranger District, Manti-La Sal National Forest, Carbon and Emery Counties, UT, comment period ends: June 2, 2003, contact: Karl Boyer (435) 637-2817.

Amended Notices

EIS No. 020474, Draft EIS, FHW, AK, South Extension of the Coastal Trail Project, To Extend the Existing Tony Knowles Coastal Trail from Kincaid Park through the Project Area to the Potter Weigh Station, COE section 10 and 404 permit, Municipality of Anchorage, Anchorage, Alaska, comment period ends: May 16, 2003, contact: Tim A. Haugh (907) 586-7418. Revision of FR notice published on 11/22/2002: CEQ comment period ending on 3/7/2003 has been extended to 5/16/2003.

EIS No. 030108, Final EIS, GSA, WI, Badger Army Ammunition Plant, Property Disposal, Implementation, Townships of Sumpter and Merrimac, Sauk County, WI, wait period ends: April 28, 2003, contact: Mark N. Lundgren (312) 353-0302. Revision of FR notice published on 3/21/2003: CEQ comment period ending 4/21/2003 has been extended to 4/28/2003.

Dated: April 15, 2003.
Joseph C. Montgomery,
Director, NEPA Compliance Division, Office of Federal Activities.

[FR Doc. 03-9626 Filed 4-17-03; 8:45 am]

BILLING CODE 6560-50-P